DEPARTMENT OF TRANSPORTATION

Federal Aviation Administration

14 CFR Part 71

[Docket No. FAA-2019-0815; Airspace Docket No. 19-ASW-8]

RIN 2120-AA66

Revocation, Amendment, and Establishment of Multiple Air Traffic Service (ATS) Routes Due to the Decommissioning of the Greene County, MS, VOR

AGENCY: Federal Aviation Administration (FAA), DOT.

ACTION: Final rule.

SUMMARY: This action removes Jet Route J-590, amends VHF Omnidirectional Range (VOR) Federal airways V-11 and V-70, and establishes Area Navigation (RNAV) routes T-362 and T-365. The FAA is taking this action due to the planned decommissioning of the VOR portion of the Greene County, MS (GCV), VOR/Tactical Air Navigation (VORTAC) navigation aid (NAVAID). The Greene County VOR is being decommissioned in support of the FAA's VOR Minimum Operational Network (MON) program.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking for Docket No. FAA-2019-0815 in the Federal Register (84 FR 64797; November 25, 2019), removing Jet Route J-590, amending VOR Federal airways V-11 and V-70, and establishing RNAV routes T-362 and T-365 due to the planned decommissioning of the VOR portion of the Greene County, MS, VORTAC NAVAID. Interested parties were invited to participate in this rulemaking effort by submitting written comments on the proposal. No comments were received.

Subsequent to the NPRM, the FAA published a rule for Docket No. FAA-2019-0688 in the Federal Register (85 FR 13479; March 9, 2020), amending VOR Federal airway V-11 by amending the EDGEE fix in the airway description to describe it as the intersection of the Fort Wayne VORTAC 038° and the Flag City, OH, VORTAC 308° radials. That airway amendment, effective May 21, 2020, is included in this rule.

Jet Routes are published in paragraph 2004, VOR Federal airways are published in paragraph 6010(a), and RNAV T-routes are published in paragraph 6011 of FAA Order 7400.11D dated August 8, 2019, and effective September 15, 2019, which is incorporated by reference in 14 CFR 71.1. The ATS routes listed in this document would be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the NPRM

In the NPRM, the FAA proposed to establish RNAV route T-362 overlying VOR Federal airway V-70 between the Fighting Tiger, LA, VORTAC and the Allendale, SC, VOR to mitigate the loss of the V-70 airway segment proposed to be removed and to provide RNAV routing capability between the Baton Rouge, LA, and Allendale, SC, areas. In the proposed T-362 route description, the RNAV route turn point listed between the Monroeville, AL, VORTAC and the Eufaula, AL, VORTAC route points was incorrectly identified as the CRENS waypoint. After closer review of the V-70 airway routing, the correct RNAV route turn point between the Monroeville VORTAC and Eufaula VORTAC was determined to be the YIBYI waypoint. To accurately overlay the proposed T-362 route over the V-70 airway between the Fighting Tiger VORTAC and Allendale VOR, the proposed T-362 route description should have reflected the “YIBYI waypoint” instead of the “CRENS waypoint” between the Monroeville VORTAC and Eufaula VORTAC route points. This RNAV route point correction to the T-362 description is included in this action.

The Rule

The FAA is amending Title 14 Code of Federal Regulations (14 CFR) part 71 by removing Jet Route J-590, modifying VOR Federal airways V-11 and V-70, and establishing RNAV routes T-362 and T-365 due to the planned decommissioning of the Greene County, MS, VOR. The air traffic service (ATS) route actions are described below.

J-590: J-590 extends between the Lake Charles, LA, VORTAC and the Montgomery, AL, VORTAC. The jet route is removed in its entirety.

V-11: V-11 extends between the Brookley, AL, VORTAC and the intersection of the Fort Wayne, IN, 038° and Flag City, OH, 308° radials (EDGEE fix). The airway segment between the Brookley, AL, VORTAC and the Magnolia, MS, VORTAC is removed. The unaffected portions of the existing airway remain as charted.

V-70: V-70 extends between the Monterrey, Mexico, VOR/DME and the Allendale, SC, VOR; and between the Grand Strand, SC, VORTAC and the Cofield, NC, VORTAC. The airspace within Mexico is excluded. The airway segment between the Picayune, MS, VOR/DME and the Monroeville, AL, VORTAC is removed. The unaffected portions of the existing airway remain as charted.

T-362: T-362 is a new route that extends between the Fighting Tiger, LA, VORTAC and the Allendale, SC, VOR. This T-route mitigates the loss of the V-70 airway segment that is removed and provides RNAV routing capability between the Baton Rouge, LA, area and the Allendale, SC, area.

T-365: T-365 is a new route that extends between the Brookley, AL, VORTAC and the Magnolia, MS, VORTAC. This T-route mitigates the loss of the V-11 airway segment that is removed and provides RNAV routing capability between the Mobile, AL, area and the Jackson, MS, area.

All NAVAID radials in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of removing Jet Route J-590, modifying VOR Federal airways V-11 and V-70, and establishing RNAV routes T-362 and T-365 due to the planned decommissioning of the Greene County, MS, VOR qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes

* * * * *

J-590 [Removed]

* * * * *

Paragraph 6010(a) Domestic VOR Federal Airways

* * * * *

V-11 [Amended]

From Magnolia, MS; Sidon, MS; Holly Springs, MS; Dyersburg, TN; Cunningham, KY; Pocket City, IN; Brickyard, IN; Marion, IN; Fort Wayne, IN; to INT Fort Wayne 038° and Flag City, OH, 308° radials.

* * * * *

V-70 [Amended]

From Monterrey, Mexico; Brownsville, TX; INT Brownsville 338° and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; to Picayune, MS. From Monroeville, AL; INT Monroeville 073° and Eufaula, AL, 258° radials; Eufaula; Vienna, GA; to Allendale, SC. From Grand Strand, SC; Wilmington, NC; Kinston, NC; INT Kinston 050° and Cofield, NC, 186° radials; to Cofield. The airspace within Mexico is excluded.

* * * * *

Paragraph 6011 United States Area Navigation Routes

* * * * *

T-362 Fighting Tiger, LA (LSU) to Allendale, SC (ALD) [New]
Fighting Tiger, LA (LSU) | VORTAC | (Lat. 30°29′06.48″ N, long. 091°17′38.64″ W)
Picayune, MS (PCU) | VOR/DME | (Lat. 30°33′40.20″ N, long. 089°43′49.76″ W)
Green County, MS (GCV) | DME | (Lat. 31°05′52.66″ N, long. 088°29′10.06″ W)
Monroeville, AL (MVC) | VORTAC | (Lat. 31°27′33.57″ N, long. 087°21′09.14″ W)
YIBYI, AL | WP | (Lat. 31°44′10.50″ N, long. 086°16′47.98″ W)
Eufaula, AL (EUF) | VORTAC | (Lat. 31°57′00.90″ N, long. 085°07′49.73″ W)
Vienna, GA (VNA) | VORTAC | (Lat. 32°12′48.39″ N, long. 083°29′50.12″ W)
KLICK, GA | WP | (Lat. 32°33′47.00″ N, long. 082°33′01.47″ W)
MILEN, GA | WP | (Lat. 32°54′02.88″ N, long. 081°36′33.99″ W)
Allendale, SC (ALD) | VOR | (Lat. 33°00′44.98″ N, long. 081°17′32.04″ W)
T-365 Brookley, AL (BFM) to Magnolia, MS (MHZ) [New]
Brookley, AL (BFM) | VORTAC | (Lat. 30°36′45.80″ N, long. 088°03′19.78″ W)
Green County, MS (GCV) | DME | (Lat. 31°05′52.66″ N, long. 088°29′10.06″ W)
MIZZE, MS | WP | (Lat. 31°50′02.25″ N, long. 089°21′16.86″ W)
Magnolia, MS (MHZ) | VORTAC | (Lat. 32°26′02.65″ N, long. 090°05′59.18″ W)

* * * * *

Issued in Washington, DC, on August 13, 2020.
Scott M. Rosenbloom,
Acting Manager, Rules and Regulations Group.

[FR Doc. 2020-18253 Filed 8-19-20; 8:45 am]

BILLING CODE 4910-13-P